DEPARTMENT OF TRANSPORTATION

Federal Highway Administration

Environmental Impacts Statement San Diego County, CA

AGENCY: Federal Highway Administration (FHWA), DOT.

ACTION: Notice of intent.

SUMMARY: The FHWA is issuing this notice to advise the public that an environmental impact statement will be prepared for a proposed highway project in Oceanside, San Diego County, California.

FOR FURTHER INFORMATION CONTACT: Jeffrey Lewis, Senior Transportation Engineer, Federal Highway Administration, 980 9th Street, Suite 400, Sacramento, CA 95814-2724: Telephone (916) 498-5035. Internet address: Jeff.Lewis@fhwa.dot.gov.

SUPPLEMENTARY INFORMATION: The FHWA, in cooperation with the California Department of Transportation and the City of Oceanside will prepare an environmental impact statement (EIS) on a proposal to construct an interchange at State Route 78 and Rancho Del Oro Drive in the City of Oceanside.

The new interchange is considered necessary to minimize existing and future traffic congestion at adjacent interchanges and arterial roadways in Carlsbad and Oceanside. The proposed project includes a new overcrossing structure and four new ramp connections from Rancho Del Oro Drive to SR78. Alternatives under consideration include the following: (1) Taking no action; (2) construction of a tight diamond interchange to connect SR78 and Rancho Del Oro Drive; (3) shifting the existing roadway and constructing the new diamond interchange to the north; (4) construction of a tight diamond interchange, shifted to the north with Rancho Del Oro realigned to the west; and (5) construction of an offset diamond, located north of State Route 78 with a fly-over structure for on- and off-ramps. All alternatives will accommodate the addition of an eastbound truck-climbing land between El Camino Real and College Boulevard.

Letters describing the proposed action and soliciting comments will be sent to appropriate Federal, State, and local agencies, and to private organizations and citizens who have previously expressed or are known to have interest in this proposal. Public scoping meetings are anticipated to be held at appropriate locations in or near the cities of Oceanside and/or Carlsbad in summer/fall of 2001. After the draft EIS is made available for public and agency review, a public hearing will be held. Public notice will be given of the time and place of the public scoping meetings and public hearing.

To ensure that the full range of issues related to this proposed action are addressed and all significant issues are identified, comments and suggestions are invited from all interested parties. Comments or questions concerning this proposed action and the EIS should be directed to the FHWA at the address provided above. The views of agencies having knowledge about the historic resources potentially affected by the proposal or interested in the effects of the project on historic properties are solicited.

(Catalog of Federal Domestic Assistance Program Number 20.205, Highway Planning and Construction. The regulations implementing Executive Order 12372 regarding intergovernmental consultation of Federal programs and activities apply to this program.)
Jeffery S. Lewis,
Senior Transportation Engineer, Sacramento, California.

[FR Doc. 01-13212 Filed 5-24-01; 8:45 am]

BILLING CODE 4910-22-M